DEPARTMENT OF LABOR

Employment and Training Administration

[TA-W-52,695]

Agere Systems, Irwindale, California; Notice of Termination of Investigation

Pursuant to Section 221 of the Trade Act of 1974, an investigation was initiated on August 27, 2003, in response to a worker petition filed on behalf of workers at Agere Systems, Irwindale, California.

The petition regarding the investigation has been deemed invalid. Petitions must be signed by three workers, a duly authorized representative of such workers, the employer of such workers, or an appropriate state official.

The petition submitted in this case does not contain valid signatures of any of the above. Consequently, further investigation in this case would serve no purpose, and the investigation has been terminated.

Signed in Washington, DC, this 10th day of September, 2003.
Richard Church,
Certifying Officer, Division of Trade Adjustment Assistance.

[FR Doc. 03-25720 Filed 10-9-03; 8:45 am]

BILLING CODE 4510-30-P